DEPARTMENT OF DEFENSE

Department of the Army

Availability for Non-Exclusive, Exclusive, or Partially Exclusive Licensing of U.S. Provisional Patent Application Concerning Detection of Oxidizing Agents in Urine

AGENCY: Department of the Army, DoD.

ACTION: Notice.

SUMMARY: In accordance with 37 CFR 404.6 and 404.7, announcement is made of the availability for licensing of the invention set forth in U.S. Provisional Patent Application No. 60/529,700 entitled “Detection of Oxidizing Agents in Urine,” filed December 16, 2003 and U.S. Provisional Patent Application No. 60/479,187 entitled “Six Spectroscopic Methods for Detection of Oxidants in Urine: Implications in Differentiation of Normal and Adulterated Urine,” filed June 18, 2003. Foreign rights are also available (PCT/US03/06283). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to methods and means for detecting oxidants in urine. More specifically, the present invention relates to methods and means for spectroscopic detection of oxidants and oxidizing agents in urine.

Brenda S. Bowen,
Alternate Army Federal Register Liaison Officer.

[FR Doc. 04-13270 Filed 6-10-04; 8:45 am]

BILLING CODE 3710-08-M